DEPARTMENT OF TRANSPORTATION

Federal Aviation Administration

14 CFR Part 71

[Docket No. FAA-2011-0438; Airspace Docket No. 11-AWA-4]

RIN 2120-AA66

Proposed Amendment to Class B Airspace; Salt Lake City, UT

AGENCY: Federal Aviation Administration (FAA), DOT.

ACTION: Notice of proposed rulemaking (NPRM).

SUMMARY: This action proposes to modify Salt Lake City, UT, Class B airspace to contain aircraft conducting Instrument Flight Rules (IFR) instrument approach procedures to Salt Lake City International Airport (SCL), Salt Lake City, UT. The FAA is taking this action to improve the flow of air traffic, enhance safety, and reduce the potential for midair collision, while accommodating the concerns of airspace users. Further, this effort supports the FAA's national airspace redesign goal of optimizing terminal and en route airspace to reduce aircraft delays and improve system capacity.

DATES: Comments must be received on or before October 24, 2011.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2011-0438 and Airspace Docket No. 11-AWA-4 at the beginning of your comments. You may also submit comments through the Internet at http://www.regulations.gov.

FOR FURTHER INFORMATION CONTACT: Colby Abbott, Airspace, Regulations, and ATC Procedures Group, Office of Airspace Services, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-0438 and Airspace Docket No. 11-AWA-4) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket Nos. FAA-2011-0438 and Airspace Docket No. 11-AWA-4.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/regulations_policies/rulemaking/recently_published/.

You may review the public docket containing the proposal, any comments received and any final disposition in person in the Dockets Office (see ADDRESSES section for address and phone number) between 9 a.m. and 5 p.m., Monday through Friday, except Federal holidays. An informal docket may also be examined during normal business hours at the office of the Western Service Center, Federal Aviation Administration, 1601 Lind Ave., SW., Renton, WA 98057.

Persons interested in being placed on a mailing list for future NPRMs should contact the FAA's Office of Rulemaking, (202) 267-9677, for a copy of Advisory Circular No. 11-2A, Notice of Proposed Rulemaking Distribution System, which describes the application procedure.

Background

In 1989, the FAA issued a final rule establishing the Salt Lake City, UT, Terminal Control Area (54 FR 43786). As a result of the Airspace Reclassification final rule (56 FR 65638), which became effective in 1993, the terms “terminal control area” and “airport radar service area” were replaced by “Class B airspace area” and “Class C airspace area,” respectively. The primary purpose of a Class B airspace area is to reduce the potential for midair collisions in the airspace surrounding airports with high-density air traffic operations by providing an area in which all aircraft are subject to certain operating rules and equipment requirements.

The SLC Class B airspace area was last modified in 1995 (60 FR 48350) using air traffic activity levels from the 1990s, and has not been modified since. In recent years, Salt Lake City has completed construction projects to modernize, enhance safety, and provide for increased capacity at SLC. These projects included the construction of a new Runway 16 R/34 L at SLC. The new west runway places departures closer to the Oquirrh Mountains southwest of SLC, and these departures need to climb to 10,000 feet to safely clear the terrain. This requires downwind traffic to level at 11,000 feet to remain above departures, which leaves the arrival aircraft outside the Class B airspace.

Since the SLC Class B airspace area was established, SLC has experienced increased traffic levels, a considerably different fleet mix, and airport infrastructure improvements enabling simultaneous instrument approach procedures. For calendar year 2009, SLC documented 328,508 total operations and was rated 24th among all Commercial Service Airports with 9,903,821 passenger enplanements. Under the current Class B airspace configuration, aircraft routinely enter, exit, and then reenter Class B airspace while flying published instrument approach procedures, which is contrary to FAA Orders. Modeling of existing traffic flows has shown that the proposed expanded Class B airspace would enhance safety by containing all instrument approach procedures, and associated traffic patterns, within the confines of Class B airspace and better segregate IFR aircraft arriving/departing SLC and Visual Flight Rules (VFR) aircraft operating in the vicinity of the SLC Class B airspace area. The proposed Class B airspace modifications described in this NPRM are intended to address these issues.

Pre-NPRM Public Input

In 2009, the FAA initiated action to form an Ad Hoc Committee to provide comments and recommendations regarding the planned modifications to the SLC Class B airspace area. Participants in the committee included representatives from National Business Aviation Association (NBAA), Aircraft Owners and Pilots Association (AOPA), Delta and Sky West Airlines, Soaring Society of America (SSA), Utah Hang Gliding and Paragliding Association, Utah General Aviation Association, local flight schools, and individuals impacted by SLC Class B airspace.

The Ad Hoc Committee recommended several charting changes for the SLC VFR Flyway Chart in order to have fewer “blue arrow” routes. This would eliminate clutter and draw more attention to the safety issue associated with paraglider and hang glider activity located east of Interstate 15 (I-15) at Point of the Mountain. The Ad Hoc Committee agreed that one “blue arrow” would suggest a north-south route on the east side of the Salt Lake Valley; and at the south end, the arrow would bend around Point of the Mountain. This would encourage pilots to fly around the hang gliding/paragliding area. The arrow would recommend northbound at 6,500 feet and southbound at 7,500 feet.

Additionally, the Ad Hoc Committee suggested a bold note warning aircraft of the potential for hang gliding/paragliding activity east of I-15 at Point of the Mountain. A second “blue arrow” would suggest a route between the Garfield Stack at the north end of the Oquirrh Mountains and Point of the Mountain. The committee also suggested placing a “blue arrow” south and west of Hill Air Force Base. Since the F-16 aircraft depart southwest from Hill Air Force Base and climb rapidly to 6,500 feet, it would be safer for VFR aircraft to be at or below 6,000 feet when transitioning through this area.

The Ad Hoc Committee requested a high altitude VFR transition route over I-80 be published. The appropriate Air Traffic Control (ATC) frequency would be published with a suggested eastbound altitude of 11,500 feet and westbound altitude of 10,500 feet. Salt Lake TRACON would prefer to have more flexibility with the VFR over flights, and added “expect” to the routing description to indicate flexibility in route or altitude assignment.

As announced in the Federal Register (75 FR 73983), informal airspace meetings were held on January 26, 2011, at the Ogden Conference Room, Ogden Hinckley Airport Terminal; on February 1, 2011, at the Conference Room in the Executive Terminal, West Salt Lake City, UT; and on February 3, 2011, at the Utah Valley University Aviation Flight Center, Provo, UT. These meetings provided interested airspace users with an opportunity to present their views and offer suggestions regarding the planned modification of the SLC Class B airspace. All comments received as a result of the informal airspace meetings, along with the recommendations made by the Ad Hoc Committee, were considered in developing this proposal.

Informal Airspace Meeting Comments

Numerous commenters representing the glider community expressed concern with the proposed floor of area L. The glider pilots requested that the floor of proposed area L be raised to 10,500 feet to allow safer glider operations below Class B airspace along the ridgeline of the Wasatch Mountains.

One commenter, not associated with the glider community and regularly transitions through this area, stated that it was unsafe for him to cross the ridgeline of the Wasatch Mountains below the proposed Class B floor of 10,000 feet.

After review of the flight tracks through proposed Area L, the FAA agrees that the floor of Class B airspace can be raised to 10,500 feet in this area and still safely contain instrument procedures.

One commenter requested that the ceiling of Class B airspace remain at 10,000 feet along the eastern edge of Area B over and east of U.S. Highway 89 to allow hang glider operations to remain at 10,000 feet and fly over the strong canyon winds associated with Weber Canyon.

The FAA does not agree. A review of Salt Lake City's flight tracks shows numerous departures below 12,000 feet in this area. A Class B ceiling of 10,000 feet would expose these departures to VFR aircraft transitioning through this area west of the Wasatch Mountains. In addition, keeping one portion of the Class B airspace at 10,000 feet would necessitate adding a new area to the proposed airspace. Designing the Class B airspace with multiple ceiling altitudes increases the complexity of the airspace design, especially when it is only used in one small area. In the interest of reduced complexity, the Class B airspace should keep a consistent ceiling altitude of 12,000 feet.

One commenter requested that the floor of Area E be raised to 7,000 feet. The commenter stated that there is terrain in the area that is difficult to pass over below 6,500 feet, and that there is no logical reason for the air carriers to pass over this area below 7,500 feet.

The FAA does not agree. After conducting a thorough review of Area E, the FAA determined that raising the floor of Class B airspace to 7,000 feet does not safely contain Salt Lake City departure and arrival traffic.

One commenter requested the identification of some visual reporting points to help identify Class B airspace northwest of South Valley Regional Airport (U42).

The FAA was able to locate landmarks to identify the boundary between the proposed Class B surface area (Area A) and Area E, including the Usana Amphitheatre, the intersection of State Route 201 and S. 8000 West St., and Interstate 15 (I-15). The western boundary is located over the foothills of the Oquirrh Mountains and there are no good ground references in this area. The FAA used the Wasatch VOR (TCH) 12-mile DME arc to define the Area E boundary northwest of U42, arcing northwest until intercepting the Union Pacific railroad, then following the railroad westbound. Other than the western boundary of Area E due west of U42, Class B airspace should be easy to identify using landmarks and DME.

Two commenters were concerned with the airspace around Point of the Mountain. One commenter requested that the Class B airspace over restricted area R-6412 be raised to 8,100 feet to avoid congestion east of R-6412 and Point of the Mountain. The other commenter stated that VFR aircraft are already funneled into a narrow space and that the new proposal will only make the situation worse.

The FAA does not agree. The airspace around Point of the Mountain is a congested area. The finals for runways 34R and 35 at SLC pass approximately one mile west of Point of the Mountain. Aircraft on final for runway 34L are at, or descending to, 8,000 feet in this area, and why the 8,000-foot floor is proposed for Area G. With the current Class B design, the floor of Class B airspace is 9,000 feet to the south/southwest of Point of the Mountain and 7,000 feet to the west/northwest. The proposal does lower the Class B airspace west/southwest of the Point of the Mountain area from 9,000 feet to 8,000 feet, but raises the floor of Class B airspace south of Point of the Mountain from 9,000 feet to 10,000 feet, and the airspace to the west/northwest from 7,000 feet to 8,000 feet. The proposed design allows north-and south-bound VFR aircraft along I-15 and Point of the Mountain to remain 1,000 feet higher, at all times, than the present Class B design allows.

AOPA and three individuals objected to the east to west transitioning through the proposed Class B airspace and one individual requested the FAA establish a VFR corridor. AOPA also requested published recommended altitudes, frequencies, and route of flight on the Salt Lake City VFR Flyway chart.

The FAA does not agree. Salt Lake City's traffic flows and altitudes make an established VFR corridor impractical. Salt Lake City has only one downwind leg that passes west of the airport, and approximately 50 percent of Salt Lake City's traffic also departs to the west. These departures would conflict with any VFR corridor design that passed over the airport. As recommended by AOPA and the Ad Hoc Committee, Salt Lake City will publish frequencies, altitudes, and routes on the VFR Flyway chart to mitigate impacts to VFR aircraft. VFR aircraft, in contact with air traffic controllers, will continue to be able to transition through Class B airspace after receiving a clearance.

One commenter stated that with parachute jump operations at the Ogden airport (OGD), there would be delays in receiving approval for a jump through Class B airspace and delays for the jump aircraft climbing or descending through the proposed Area N.

The FAA does not agree. The parachute operation currently requests permission to jump in this area and the request is approved or denied based on traffic below the jump aircraft. If Area N is added to the Class B airspace as proposed, there would be no change to the current procedures. The jump aircraft can receive a Class B clearance at the same time the jumpers receive permission for the jump, and there will be no increased delay for the jump aircraft.

One commenter questioned why it is necessary to have the floor of Class B airspace at 9,000 feet in Area H, especially in the southern portion.

When Salt Lake City is in a north flow, IFR arrival traffic is regularly at 9,000 feet in this area when aircraft are on downwind, base, and final during their approaches. The VFR transition routes referenced are departure and arrival routes for VFR aircraft operating to and from Salt Lake City International Airport. These routes are contained within the Class B surface area. They cross the arrival end of the runways, then pass under the downwind westbound. A modification of Class B airspace in these areas is not possible. These VFR routes exist to benefit VFR aircraft and are designed to provide a shorter route to the west. If a pilot does not want to use these routes, he or she can always choose to avoid crossing over the water and depart north or south along I-15 enroute to the west practice area.

One commenter stated that local law enforcement has a tracking program that currently operates over the top of Class B airspace at 10,500 feet and that it would make it difficult or impossible to continue the tracking program above 12,000 feet. The individual also contends that the sensitivity of the equipment does not allow two-way radio communication.

The FAA does not agree. Salt Lake City Tower and Approach control has numerous Letters of Agreement with local law enforcement and welcomes discussions about creating a new Letter of Agreement to support the telemetry-tracking program. The area in which these operations occur has numerous aircraft climbing and descending through 10,500 feet, which reinforces the need for the raised ceiling of class B airspace.

One commenter argued that the Mode C veil has greatly reduced general aviation at Cedar Valley Airport (UT10).

The FAA does not agree. UT10 is located approximately 26 miles south of Salt Lake City International and is within the 30 mile Mode C veil. The current Class B design has a floor of 9,000 feet, as does the proposed design. The UT10 elevation is approximately 5,000 feet and should be easily accessible below the 9,000 foot Class B shelf, without requiring a Class B clearance. The proposed Class B airspace design, and the current Mode C veil, do not limit any aircraft operations at UT10 below 9,000 feet.

Two commenters proposed splitting the proposed Area O into two sectors, north and south, with a 6,500 feet area to the north and a 7,000 feet area to the south. The individuals are concerned about commercial aircraft in a continuous flow over their houses.

The FAA does not agree. FAA Order 7400.2 provides that Class B airspace is to be designed to contain all instrument procedures. At the southern edge of proposed Area O, there are two fixes on the runway 34L and 34R ILS approaches, DUNLP and SCOER. After arrivals cross these two fixes, they descend to 6,100 feet to meet the next crossing restriction on the arrival. The instrument approaches IFR aircraft are flying will not change and raising the floor of Class B airspace above 6,000 feet in this area will not contain these two instrument procedures as required.

AOPA contends that raising the ceiling of Class B airspace to 12,000 feet provides no clear operational safety benefits for any specific user, but will have a detrimental impact on general aviation safety and efficiency.

The FAA does not agree. There are approximately 1,000 IFR operations a day that operate at and below 12,000 feet within 30 miles of SLC. The Ad Hoc Committee extensively discussed raising the ceiling to 12,000 feet and a consensus of that group supported the change. The general aviation members of the committee endorsed raising the ceiling to 12,000 feet, and they are the group most familiar with VFR flight in the area.

It should be noted that FAA Order 7400.2 provides that, “The outer limits of the airspace shall not exceed a 30-nautical mile (NM) radius from the primary airport. This 30-NM radius generally will be divided into three concentric circles. The floor of the area between 20 NM and 30 NM shall be at an altitude consistent with approach control arrival and departure procedures. It is expected that this floor would normally be between 5,000 and 6,000 feet above airport elevation.” Using this criterion, the floor of the Salt Lake City Class B airspace between 20 and 30 miles should be between 9,227 feet and 10,227 feet. Presently the ceiling of the Salt Lake City Class B airspace is 10,000 feet, and does not contain existing arrival and departure procedures as required. Of the 30 airports with Class B airspace in the United States, SLC has the second highest field elevation. The current height of Salt Lake City Class B airspace rises 5,773 feet above ground level, the lowest of any in the nation. With the requirement to climb departures to 10,000 feet, this leaves ATC with no available altitudes to contain downwind arrivals in Class B airspace. An increase to 12,000 feet would increase the Class B airspace to 7,773 feet above ground level, which is still lower than the national average of 8,373 feet.

Commenters from the Soaring Society of America (SSA) stated that the vertical extension would require more IFR traffic to exit the side of controlled airspace and that the FAA should mandate that all IFR aircraft enter and exit through the top of Class B airspace, referencing FAA Order 7210.3, section 11-1-5. This section states that arrivals and departures should enter and exit the top of Class B airspace, not shall enter and exit through the top of Class B airspace. A further examination of FAA Order 7210.3 defines the terms “should” and “shall”. Shall indicates a procedure is mandatory, should indicates a procedure is recommended.

FAA Order 7210.3, section 11-1-5 also states that, “* * * each Class B airspace shall reflect the most efficient and reasonable configuration to contain large turbine powered aircraft while achieving a higher level of safety.” A further examination of the arrival traffic on January 1, 2011, showed that of the 119 arrivals that were at or below 12,000 feet, 74 were large turbine-powered aircraft, or 21 percent.

Commenters from the SSA also stated that even a modest increase in the ceiling height of the SLC Class B airspace will result in a reduction in the number of sailplane flights that are able to transition above the Class B airspace.

The FAA analyzed actual Salt Lake City arrival and departure tracks for July 16, 2010, as it was the hottest day of 2010 at 102 degrees. The FAA selected that date since aircraft climb slower on hot days and this would represent the worst-case departure scenario. Of the 510 departures on that day, 31 departures exited the side of the proposed Class B airspace, which is 6 percent of all departures. The FAA also analyzed January 1, 2011, which was the coldest winter day in 2010/2011 with an average daily temperature of 37.2 degrees. Of the 354 arrivals on that day, 119 arrivals were at or below 12,000 feet before they were contained in the lateral confines of the proposed SLC Class B airspace, which is 32 percent of all arrivals.

Raising the ceiling of Class B airspace to 12,000 feet means that 83 percent of all IFR operations, including large turbine powered and smaller aircraft will depart and arrive through the ceiling of Class B airspace. Raising the ceiling to 12,000 feet is the most efficient and reasonable configuration for Salt Lake's Class B airspace.

The Proposal

The FAA is proposing an amendment to Title 14 of the Code of Federal Regulations (14 CFR) part 71 to modify the SLC Class B airspace area. This action (depicted on the attached chart) would raise the existing ceiling from 10,000 feet to 12,000 feet in order to provide additional airspace that is needed to contain aircraft conducting instrument approach operations within the confines of Class B airspace. Additionally, the proposed modifications would better segregate IFR aircraft arriving/departing SLC and VFR aircraft operating in the vicinity of the Salt Lake Class B airspace area. The proposed modifications to the SLC Class B airspace area are:

Area A. Area A would be redefined from the surface to 12,000 feet. The northern boundary would be moved south an average of 2 miles. This would allow VFR aircraft to transition westbound sooner than is currently available and will relieve some congestion between the Hill Air Force Base (AFB) Class D airspace and Salt Lake City's Class B surface area airspace. As recommended by the Ad Hoc Committee, the surface area north of the Skypark Airport (BTF) would move to the west to relieve congestion between the Class B surface area airspace and the Wasatch Mountains to the east. Also, the surface area east of South Valley Regional Airport (U42) would be removed and combined with the 6,000-foot shelf over and to the southeast of U42. IFR arrivals and departures at Salt Lake airport are above 6,100 feet in this area and would be contained by a 6,000-foot shelf (see Area D).

Area B. Area B would incorporate portions of existing Areas B and J, with a floor at 7,800 feet and the ceiling raised to 12,000 feet. The western boundary would change from the I-BNT 25-mile DME arc to the TCH 20-mile DME arc. Raising the floor of existing Area B from 7,600 feet to 7,800 feet matches the existing Class B airspace area over Hill AFB, and allows VFR aircraft operating in the area to climb sooner than is currently possible.

Area C. Area C would be a new area in existing Class B airspace, with the ceiling raised to 12,000 feet, to reduce congestion in the airspace between the Hill AFB Class D airspace area and the SLC Class B surface area airspace. This area would incorporate a portion of existing Area A, with the floor raised from the surface to 6,000 feet, to allow VFR aircraft easier access to transit north of SLC below the Class B airspace area.

Area D. Area D would remain similar to the existing Area D; expanded laterally into existing Class B airspace with the ceiling raised to 12,000 feet. This area would incorporate a portion of existing Area A, raising the floor from the surface to 6,000 feet, to allow VFR aircraft easier access to and from U42. The southern boundary would ensure aircraft are fully contained within Class B airspace while flying Instrument Landing System (ILS) approaches to runways 34L and 34R.

The Salt Lake Valley has several areas along the west side where the terrain penetrates the floor of existing Class B airspace, making the airspace in those areas unuseable by IFR traffic. As such, the western boundary of the Class B airspace in those areas could be moved to the east without compromising flight safety. The following descriptions of proposed areas E, F, G and H reflect this boundary shift to the east. Since there are not convenient visual landmarks in this area, the western boundaries of the proposed Class B airspace sub-areas are best defined using longitude 112°07′00″ W.

Area E. Area E would combine two existing Class B airspace sub-areas (Areas C and K) into one with the floor established at 6,500 feet and the ceiling raised to 12,000 feet. The southern boundary would extend south slightly using the TCH 16-mile DME arc. The southwest portion of Class B airspace boundary would be relocated east slightly using the TCH 12-mile DME arc to eliminate terrain penetrating the floor of Class B airspace. The western boundary defined by the TCH 13.5-mile DME arc instead of the I-BNT 13-mile DME arc, to the to contain IFR departures.

Area F. Area F would be a new area in existing Class B airspace (Area E), with the ceiling raised to 12,000 feet and the northern boundary defined by the TCH 16-mile DME arc instead of the I-BNT 11 DME arc. The southern boundary would move south slightly to fully contain the runway 34L and 34R ILS approaches.

Area G. Area G would combine the current Areas F and G into one with the floor established at 8,000 feet and the ceiling raised to 12,000 feet. The southern boundary would be established approximately four miles south of the existing southern boundary of existing Areas F and G to allow IFR traffic during Simultaneous Independent ILS approaches to join final closer to the airport and improve efficiency. The terrain in this area is mostly below 7,000 feet and shouldn't restrict VFR aircraft from climbing south bound below the Class B airspace area.

Area H. Area H would remain similar to the current Area H with the floor at 9,000 feet, but the ceiling raised to 12,000 feet. This area would also expand slightly to the west to use the same longitude for its boundary as is used in Area G description, for simplicity, and would redefine the southern boundary further north by using the TCH VOR 33 DME arc.

Area I. Area I would be a new area east of area H, with a floor of 10,000 feet and a ceiling of 12,000 feet, designed to capture arrivals from the southeast. This would be a commonly used corridor for north arrivals, and would aid air traffic control in sequencing.

Area J. Area J would be a new area over the north end of the Oquirrh Mountains with the floor established at 11,000 feet and the ceiling at 12,000 feet. This area would contain IFR departure traffic climbing southbound, as well as contain arrival traffic being vectored to the downwind.

Area K. Area K would be a new area redefining a portion of the current Area B. This area would raise the floor of Class B airspace to 8,600 feet and raise the ceiling to 12,000 feet to provide more altitudes for VFR aircraft.

Area L. Area L would redefine a portion of the current Area I to allow for north-flow departures from SLC to climb and turn eastbound on course. Area L would be established with a floor raised to 10,500 feet and the ceiling raised to 12,000 feet. Currently, there are two geographically separate airspace areas, 9,000 feet to 10,000 feet, that collectively comprise area I. One area is located northeast of SLC Airport, and the other area is located to the southeast. Both of these existing Class B airspace areas have terrain that penetrates the floor of the areas, with the southeastern area actually having terrain that extends through the ceiling of the area as well. Since the southern portion of existing Area I is only occasionally used for IFR aircraft, and is almost never used for large turbo jet aircraft, this portion of Area I would be deleted completely without impact to flight safety. Additionally, the eastern boundary of this new area would be moved to the west along the ridgeline of the Wasatch Mountains and still contain IFR departures turning eastbound.

Area M. Area M would remain similar to the existing Area M, with the floor lowered to 9,000 feet and the ceiling raised to 12,000 feet. The lateral boundaries would extend slightly with the northern boundary extended north to the TCH 26-mile DME arc and the western boundary extended west one mile to ensure the runway 16L/1R downwind is contained within Class B airspace during Simultaneous Independent ILS approaches.

Area N. Area N would be a new area, with the floor established at 10,000 feet and the ceiling at 12,000 feet, intended to contain aircraft flying instrument approaches to SLC runway 17. Runway 17 is used extensively, often designated as a main arrival or departure runway, in the various SLC runway use plans. Aircraft are regularly established on a runway 17 final 30 miles from the airport and descending through 12,000 feet in this area.

Area O. Area O would be a new subarea description that would lower a portion of existing Class B airspace in this area from 7,600 feet to 7,500 feet. Lowering the Class B airspace area floor in this area would allow aircraft flying the runway 16R and 16L ILS approaches to descend to 7,500 feet and provide containment for them throughout the instrument approach procedures. Area O would also incorporate airspace north and east of SLC, currently Area L.

Paperwork Reduction Act

The Paperwork Reduction Act of 1995 (44 U.S.C. 3507(d)) requires that the FAA consider the impact of paperwork and other information collection burdens imposed on the public. We have determined that there is no new information collection requirement associated with this proposed rule.

Economic Summary

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this Order permits that a statement to that effect and the basis for it to be included in the preamble if a full regulatory evaluation of the cost and benefits is not prepared. Such a determination has been made for this proposed rule. The reasoning for this determination follows:

After consultation with a diverse cross-section of stakeholders that participated in the Ad Hoc Committee to develop the recommendations contained in this proposal, and a review of the recommendations and comments, the FAA expects that this proposed rule would result in minimal cost. The FAA is taking this action to improve the flow of air traffic, enhance safety, and reduce the potential for midair collision in the SLC Class B airspace.

This NPRM would enhance safety, reduce the potential for a midair collision in the SLC area and would improve the flow of air traffic. As such, we estimate a minimal impact with substantial positive net benefits. The FAA requests comments with supporting justification about the FAA determination of minimal impact. FAA has, therefore, determined that this proposed rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The FAA believes the proposal would not have a significant economic impact on a substantial number of small entities as the economic impact is expected to be minimal. We request comments from the potentially affected small businesses. Therefore, the FAA certifies that this proposed rule would not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the potential effect of this proposed rule and determined that it would enhance safety and is not considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $140.8 million in lieu of $100 million. This proposed rule does not contain such a mandate; therefore, the requirements of Title II of the Act do not apply.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010, is amended as follows:

Paragraph 3000 Subpart B—Class B Airspace.

* * * * *

ANM UT B Salt Lake City, UT [Modified]

Salt Lake City International Airport (Primary Airport)

(Lat. 40°47′18″ N., long. 111°58′40″ W.)

Salt Lake City VORTAC, (TCH)

(Lat. 40°51′01″ N., long. 111°58′55″ W.)

Hill AFB (HIF)

(Lat. 41°07′26″ N., long. 111°58′23″ W.)

Boundaries

Area A. That area extending upward from the surface to and including 12,000 MSL, within an area bounded by a line beginning at the TCH 20°(T)/004°(M) radial 6.6-mile DME at lat. 40°57′14″ N., long. 111°55′54″ W.; thence south to the intersection of Redwood Rd. and W. 500 South St. at the TCH VORTAC 049°(T)/033°(M) radial 3.1-mile DME at lat. 40°53′02″ N., long. 111°55′48″ W.; thence south to intercept Center St. at the TCH 102°(T)/086°(M) radial 2.3-mile DME at lat. 40°50'32″ N., long. 111°55′57″ W.; thence east along Center St. to intercept the 4.3-mile DME radius of the Salt Lake City International Airport and Interstate 15 (I-15) at the TCH 099°(T)/083°(M) radial 3-mile DME at lat. 40°50'32″ N., long. 111°54′56″ W.; thence clockwise along the 4.3-mile DME radius of the Salt Lake City International Airport to intercept I-15 at the TCH 151°(T)/135°(M) radial 7.3-mile DME at lat. 40°44′37″ N., long. 111°54′15″ W.; thence south on I-15 to intercept W. 5300 South St. at the TCH 163°(T)/148°(M) radial 12.3-mile DME at lat. 40°39′17″ N., long. 111°54′06″ W.; thence west to Usana Amphitheatre at the TCH 192°(T)/176°(M) radial 11.8-mile DME at lat 40°39′26″ N., long. 112°02′14″ W.; thence northwest to the intersection of State Route 201 (SR-201) and S. 8000 West St. at the TCH 210°(T)/194°(M) radial 9.1-mile DME at lat. 40°43′06″ N., long. 112°04′56″ W.; thence northwest to intercept Interstate 80 (I-80) at the TCH 239°(T)/223°(M) radial 9-mile DME at lat. 40°46′22″ N., long. 112°09′04″ W.; thence north to a point southeast of Seagull Point on Antelope Island at the TCH 304°(T)/288°(M) radial 9.3-mile DME at lat. 40°56′12″ N., long. 112°09′03″ W.; thence east to the point of beginning.

Area B. That airspace extending upward from 7,800 feet MSL to and including 12,000 feet MSL, within an area bounded by a line beginning at the TCH 265°(T)/249°(M) radial 12-mile DME at lat. 40°49′57″ N., long 112°14′40″ W.; thence west along the TCH 265°(T)/249°(M) radial to the 20-mile DME arc at lat. 40°49′13″ N., long. 112°25′09″ W.; thence clockwise along the TCH 20-mile DME arc to intercept the 4.3-mile DME radius of Hill AFB at the TCH 009°(T)/354°(M) radial 20-mile DME at lat. 41°10'47″ N., long 111°54′48″ W.; thence clockwise along the 4.3-mile DME radius of Hill AFB to intercept W. 1700 South St. at the TCH 347°(T)/331°(M) radial 14.7-mile DME at lat. 41°05′21″ N., long. 112°03′22″ W.; thence west on W. 1700 South St. to a point at the TCH 329°(T)/313°(M) radial 16.8-mile DME at lat. 41°05′22″ N., long. 112°10'20″ W.; thence south to a point at the TCH 316°(T)/300°(M) radial 11.6-mile DME at lat. 40°59′22N., long. 112°09′27″ W.; thence south to a point southeast of Seagull Point on Antelope Island at the TCH 304°(T)/288°(M) radial 9.3-mile DME at lat. 40°56′12″ N., long. 112°09′03″ W.; thence southwest to the point of beginning.

Area C. That airspace extending upward from 6,000 feet MSL to and including 12,000 feet MSL, within an area bounded by a line beginning at the TCH 316°(T)/300°(M) radial 11.6-mile DME at lat. 40°59′22 N., long. 112°09′27′ W.; thence east to intercept I-15 at the TCH 013°(T)/357°(M) radial 9.8-mile DME at lat. 41°00'32″ N., long. 111°55′59″ W.; thence south to the TCH 020°(T)/004°(M) radial 6.6-mile DME at lat. 40°57′14″ N., long 111°55′54″ W.; thence west to a point southeast of Seagull Point on Antelope Island at the TCH 304°(T)/288°(M) radial 9.3-mile DME at lat. 40°56′12″ N., long. 112°09′03″ W.; thence north to the point of beginning.

Area D. That airspace extending upward from 6,000 feet MSL to and including 12,000 feet MSL, within an area bounded by a line beginning at the Usana Amphitheatre at the TCH 192°(T)/176°(M) radial 11.8-mile DME, lat. 40°39′26″ N., long. 112°02′14″ W.; thence east to the intersection of I-15 and W. 5300 South St. at the TCH 163°(T)/147°(M) radial 12.3-mile DME at lat. 40°39′17″ N., long. 111°54′06″ W.' thence south along I-15 to the TCH 169°(T)/153°(M) radial 20.7-mile DME at lat. 40°30'43″ N., long. 111°53′31″ W.; thence west to the TCH 184°(T)/168°(M) radial 20.4-mile DME at lat. 40°30'38″ N., long. 112°00'33″ W.; thence north to the TCH 184°(T)/168°(M) radial 16-mile DME at lat. 40°35′03″ N., long. 112°00'33″ W.; thence clockwise along the TCH 16-mile DME arc to intercept State Route 48 (SR-48) at the TCH 189°(T)/173°(M) radial at lat. 40°35′13″ N., long. 112°02′18″ W.; thence north to the point of beginning.

Area E. That airspace extending upward from 6,500 feet MSL to and including 12,000 feet MSL, within an area bounded by a line beginning at the intersection of SR-48 and the TCH 16-mile DME arc at the TCH 189°(T)/173°(M) radial 16-mile DME at lat. 40°35′13″ N., long. 112°02′18″ W., thence clockwise along the TCH 16-mile DME arc to intercept the TCH 203°(T)187°(M) radial at lat. 40°36′14″ N., long. 112°07′00″ W., thence north along long. 112°07′00″ W. to intercept the TCH 12-mile DME arc at the TCH 211°(T)/195°(M) radial 12-mile DME at lat. 40°40'42″ N., long. 112°07′00″ W., thence clockwise along the TCH 12-mile DME arc to intercept the railroad tracks at the TCH 233°(T)/217°(M) radial 12-mile DME at lat. 40°43′43″ N., long. 112°11′27″ W.thence west along the railroad tracks to intercept the TCH 13.5-mile DME arc at the TCH 236°(T)/220°(M) radial 13.5-mile DME at lat. 40°43′27″ N., long. 112°13′38″ W., thence clockwise along the TCH 13.5-mile DME arc to intercept the TCH 265°(T)/249°(M) radial at lat. 40°49′49″ N., long. 112°16′38″ W.; thence east along the TCH VORTAC 265°(T)/249°(M) radial to the TCH 265°(T)/249°(M) radial 12-mile DME at lat. 40°49′57″ N., long. 112°14′40″ W.; thence northeast to a point southeast of Seagull Point on Antelope Island at the TCH 304°(T)/288°(M) radial 9.3-mile DME at lat. 40°56′12″ N., long. 112°09′03″ W.; thence south to I-80 at the TCH 239°(T)/223°(M) radial 9-mile DME at lat. 40°46′22″ N., long. 112°09′04″ W.; thence southeast to the intersection of SR-201 and S. 8000 West St. at the TCH 210°(T)/194°(M) radial 9.1-mile DME at lat. 40°43′06″ N., long. 112°04′56″ W.; thence southeast to Usana Amphitheatre at the TCH 192°(T)/176°(M) radial 11.8-mile DME at lat 40°39′26″ N., long. 112°02′14″ W.; thence south to the point of beginning.

Area F. That airspace extending upward from 7,000 feet MSL to and including 12,000 feet MSL, within an area bounded by a line beginning at the TCH 184°(T)/168°(M) radial 16-mile DME at lat. 40°35′03″ N., long. 112°00'33″ W.; thence clockwise along the TCH 16-mile DME arc to intercept the TCH 203°(T)/187°(M) radial at lat. 40°36′14″ N., long. 112°07′00″ W.; thence south along long. 112°07′00″ W. to a point at the TCH 197°(T)/181°(M) radial 21.4-mile DME at lat. 40°30'55″ N., long. 112°07′00″ W.; thence east to a point at the TCH 184°(T)/168°(M) radial 20.4-mile DME at lat.40°30'38″ N., long. 112°00'33″ W.; thence north to the point of beginning.

Area G. That airspace extending upward from 8,000 feet MSL to and including 12,000 feet MSL, within an area bounded by a line beginning at a point on I-15 at the TCH 169°(T)/153°(M) radial 20.7-mile DME at lat. 40°30′43″ N., long. 111°53′31″ W.; thence south along I-15 to intercept the TCH 173°(T)/157°(M) radial 24.1-mile DME at lat. 40°27′05″ N., long. 111°54′51″ W.; thence south along the TCH 173°(T)/157°(M) radial to a point at the TCH 173°(T)/157°(M) radial 27-mile DME at lat. 40°24′12″ N., long. 111°54′36″ W.; thence west to a point at the TCH 193°(T)/177°(M) radial 27.6-mile DME at lat. 40°24′07″ N., long. 112°7′00″ W.; thence north to a point at the TCH VORTAC 197°(T)/181°(M) radial 21-mile DME at lat. 40°30′55″ N., long. 112°07′00″ W.; thence east to the point of beginning. Excluding R-6412, when active.

Area H. That airspace extending upward from 9,000 feet MSL to and including 12,000 feet MSL, within an area bounded by a line beginning at a point at the TCH 193°(T)/177°(M) radial 27.6-mile DME at lat. 40°27′07″ N., long. 112°07′00″ W.; thence south along long. 112°07′00″ W. to intercept the TCH 33-mile DME arc at the TCH 191°(T)/175°(M) radial 33-mile DME at lat. 40°18′35″ N., long. 112°07′00″ W., thence counter clockwise along the TCH 33-mile DME arc to a point at the TCH 173°(T)/157°(M) radial 33-mile DME at lat. 40°18′14″ N., long. 111°53′40″ W.; thence north to a point at the TCH 173°(T)157°(M) radial 27-mile DME at lat. 40°24′12″ N., long. 111°54′36″ W.; thence west to the point of beginning. Excluding R-6412, when active.

Area I. That airspace extending upward from 10,000 feet MSL to and including 12,000 feet MSL, within an area bounded by a line beginning on I-15 at the TCH 173°(T)/157°(M) radial 24.1-mile DME at lat. 40°27′05″ N., long. 111°54′51″ W.; thence south along I-15 to intercept the TCH 33-mile DME arc at the TCH 160°(T)/144°(M) radial 33-mile DME at lat. 40°19′54″ N., long. 111°44′26″ W.; thence clockwise along the TCH 33-mile DME arc to the TCH 173°(T)/157°(M) radial at lat. 40°18′14″ N., long. 111°53′40″ W.; thence north along the TCH 173°(T)/157°(M) radial to the point of beginning.

Area J. That airspace extending upward from 11,000 feet MSL to and including 12,000 feet MSL, within an area bounded by a line beginning at a point where the TCH 20-mile DME arc intercepts railroad tracks at the TCH 238°(T)/222°(M) radial 20-mile DME at lat. 40°40′ 22″ N., long. 112°21′12″ W.; thence east along the railroad tracks to intercept the TCH 12-mile DME arc at the TCH 233°(T)/217°(M) radial 12-mile DME at lat. 40°43′43″ N., long. 112°11′27″ W.; thence counter clockwise along the TCH 12-mile DME arc to a point at the TCH 211°(T)/195°(M) radial 12-mile DME at lat. 40°40′ 42″ N., long. 112°07′00″ W.; thence south along long. 112°07′00″ W. to intercept a point at the TCH 20-mile DME arc at the TCH 198°(T)/182°(M) radial 20-mile DME at lat. 40°31′59″ N., long. 112°07′00″ W.; thence clockwise along the TCH 20-mile DME arc to the point of beginning.

Area K. That airspace extending upward from 8,600 feet MSL to and including 12,000 feet MSL, within an area bounded by a line beginning at a point at the TCH 265°(T)/249°(M) radial 13.5-mile DME at lat. 40°49′49″ N., long. 112°16′38″ W.; thence west along the TCH 265°(T)/249°(M) radial to intercept the TCH 20-mile DME arc at lat. 40°49′13″ N., long. 112°25′09″ W.; thence counter clockwise along the TCH 20-mile DME arc to intercept the railroad tracks at the TCH 238°(T)/222°(M) radial 20-mile DME at lat. 40°40′22″ N., long. 112°21′12″ W.; thence east along the railroad tracks to intercept the TCH 13.5-mile DME arc at the TCH 236°(T)/220°(M) radial 13.5-mile DME at lat. 40°43′27″ N., long. 112°13′38″ W.; thence clockwise along the TCH 13.5-mile DME arc to the point of beginning.

Area L. That airspace extending upward from 10,500 feet MSL to and including 12,000 feet MSL, within an area bounded by a line beginning at the intersection of the ridge line of the Wasatch Mountains and Interstate 84 (I-84) at the TCH 016°(T)/360°(M) radial 18-mile DME at lat. 41°08′17″ N., long. 111°52′18″ W.; thence west along I-84 to intercept the 4.3-mile radius of Hill AFB at the TCH 015°(T)/359°(M) radial 17.9-mile DME at lat. 41°08′16″ N., long. 111°52′48″ W.; thence clockwise along the 4.3-mile radius of Hill AFB to intercept U.S. Highway 89 at the TCH 014°(T)/358°(M) radial 13.6-mile DME at lat. 41°04′11″ N., long. 111°54′39″ W.; thence south along U.S. Highway 89 to intercept I-15 at the TCH 024°(T)/008°(M) radial 9-mile DME at lat. 40°59′14″ N., long. 111°54′05″ W.; thence south along I-15 to a point at the TCH 072°(T)/056°(M) radial 4-mile DME at lat. 40°52′16″ N., long. 111°53′50″ W.; thence east along lat. 40°52′16″ N. to a point at the TCH 081°(T)/065°(M) radial 8-mile DME at lat. 40°52′16″ N., long. 111°48′30″ W.; thence north along long. 111°48′30″ W. to intercept the ridge line of the Wasatch Mountains at the TCH 059°(T)/043°(M) radial 9.2-mile DME at lat. 40°55′45″ N., long. 111°48′30″ W.; thence north along the ridge line of the Wasatch Mountains to the point of beginning.

Area M. That airspace extending upward from 9,000 feet MSL to and including 12,000 feet MSL, within an area bounded by a line beginning at the intersection of I-15 and the TCH 26-mile DME arc at the TCH 356°(T)/340°(M) radial 26-mile DME at lat. 41°16′58″ N., long. 112°01′33″ W.; thence counter clockwise along the TCH 26-mile DME arc to a point at the TCH 338°(T)322°(M) radial 26-mile DME, lat. 41°15′07″ N., long. 112°11′50″ W.; thence south to intercept the TCH 20-mile DME arc at the TCH 333°(T)/317°(M) radial 20-mile DME at lat. 41°08′50″ N., long. 112°10′56″ W.; thence clockwise along the TCH 20-mile DME arc to intercept I-15 at the TCH 356°(T)/340°(M) radial 20-mile DME at lat. 41°11′00″ N., long. 112°00′49″ W.; thence north along I-15 to the point of beginning.

Area N. That airspace extending upward from 10,000 feet MSL to and including 12,000 feet MSL, within an area bounded by a line beginning at the intersection of I-15 and the TCH 26-mile DME arc at the TCH 356°(T)/340°(M) radial 26-mile DME at lat 41°16′58″ N., long. 112°01′33″ W.; thence clockwise to intercept North Mountain Rd. at the TCH 003°(T)/347°(M) radial 26-mile DME at lat. 41°16′59″ N., long. 111°56′57″ W.; thence south on North Mountain Rd., which turns into Harrison Blvd., to intercept the TCH 20-mile DME arc at the TCH 004°(T)/348°(M) radial 20-mile DME at lat. 41°11′00″ N., long. 111°56′56″ W.; thence counter clockwise to intercept 1-15 at the TCH 356°(T)/340°(M) radial 20-mile DME at lat. 41°11′00″ N., long. 112°00′49″ W.; thence north along I-15 to the point of beginning.

Area O. That airspace extending upward from 7,500 feet M5L to and including 12,000 feet MSL, within an area bounded by a line beginning at the intersection of U.S. Highway 89 and a 4.3-mile radius from Hill AFB at the TCH 014°(T)/358°(M) radial 13.6-mile DME at lat. 41°04′11″ N., long. 111°54′39″ W.; thence clockwise along 4.3-mile radius from Hill AFB to intercept 1700 So. St. at the TCH 347°(T)/331°(M) radial 14.8-mile DME at lat. 41°05′21″ N., long. 112°03′22″ W.; thence west along W. 1700 South St. to a point at the TCH 329°(T)/313°(M) radial 16.8-mile DME at lat. 41°05′22″ N., long. 112°10′20″ W.; thence south to a point at the TCH 316°(T)/300°(M) radial 11.6-mile DME at lat. 40°59′22″ N., long. 112°09′27″ W.; thence east to intercept I-15 at the TCH 013°(T)/357°(M) radial 9.8-mile DME at lat. 41°00′32″ N., long. 111°55′59″ W.; thence south to a point at the TCH 020°(T)/004°(M) radial 6.6-mile DME at lat. 40°57′14″ N., long. 111°55′54″ W.; thence south to the intersection of Redwood Rd. and W. 500 South St. at the TCH 049°(T)/033°(M) radial 3.1-mile DME at lat. 40°53′02″ N., long. 111°55′48″ W.; thence south to intercept Center St. at the TCH 102°(T)/086°(M) radial 2.3-mile DME at lat. 40°50′32″ N., long. 111°55′57″ W.; thence east along Center St. to intercept the 4.3-mile DME radius of the Salt Lake City International Airport and I-15 at the TCH 099°(T)/083°(M) radial 3-mile DME at lat. 40°50′32″ N., long. 111°54′56″ W.; thence north along I-15 to intercept U.S. Highway 89 at the TCH 024°(T)/008°(M) radial 9-mile DME at lat. 40°59′14″ N., long. 111°54′05″ W.; thence north along U.S. Highway 89 to the point of beginning.

Issued in Washington, DC, on August 15, 2011.
Gary Norek,
Acting Manager, Airspace, Regulations and ATC Procedures Group.

BILLING CODE 4910-13-P

[FR Doc. 2011-21293 Filed 8-23-11; 8:45 am]

BILLING CODE 4910-13-C